DEPARTMENT OF ENERGY

Federal Energy Regulatory Commission

[Project No. 6544-003]

I-MAXMAT Corporation; Ampersand Collins Hydro, LLC; Notice of Transfer of Exemption

1. By letter filed June 16, 2014, Ampersand Collins Hydro, LLC informed the Commission that the exemption from licensing for the Collins Project, FERC No. 6544, originally issued February 9, 1984,¹ has been transferred to Ampersand Collins Hydro, LLC. The project is located on the Chicopee River in Hampden County, Massachusetts. The transfer of an exemption does not require Commission approval.

¹ 26 FERC ¶ 62,112, Order Granting Exemption from Licensing of a Small Hydroelectric Project of 5 Megawatts or Less.

2. Ampersand Collins Hydro, LLC is now the exemptee of the Collins Project, FERC No. 6544. All correspondence should be forwarded to: Mr. Jingdong Huang, Secretary, Ampersand Collins Hydro, LLC, 717 Atlantic Avenue, Suite 1A, Boston, MA 02111.

Dated: July 8, 2014.
Kimberly D. Bose,
Secretary.

[FR Doc. 2014-16441 Filed 7-14-14; 8:45 am]

BILLING CODE 6717-01-P